FEDERAL COMMUNICATIONS COMMISSION

47 CFR Parts 1 and 20

[GN Docket No. 13-111; FCC 17-25]

Promoting Technological Solutions to Combat Contraband Wireless Devices in Correctional Facilities

AGENCY: Federal Communications Commission.

ACTION: Final rule; announcement of effective date.

SUMMARY: In this document, the Federal Communications Commission (Commission) announces that the Office of Management and Budget (OMB) has approved, for a period of three years, the information collection associated with the Commission's Report and Order, FCC 17-25. This document is consistent with the Report and Order, which stated that the Commission would publish a document in the Federal Register announcing OMB approval of the information collection requirement and the relevant effective date of the rules.

DATES: The rule amendments to 47 CFR 1.9020(n), 1.9030(m), 1.9035(o), and 20.23(a), published at 82 FR 22742, May 18, 2017, which required OMB approval, are effective on October 20, 2017. The rule amendments to (1) 47 CFR 1.9020(d)(8), 1.9030(d)(8), 1.9035(d)(4), and 20.18(a), which did not require OMB approval; and (2) 47 CFR 20.18(r), which required OMB approval, published at 82 FR 22742, May 18, 2017, are effective on February 12, 2018.

FOR FURTHER INFORMATION CONTACT: For additional information, contact Cathy Williams by email at Cathy.Williams@fcc.gov and telephone at (202) 418-2918.

SUPPLEMENTARY INFORMATION: This document announces that, on October 2, 2017, OMB approved the information collection requirement contained in the Commission's Report and Order, FCC 17-25, published at 82 FR 22742, May 18, 2017. The OMB Control Number is 3060-1243. The Commission publishes this document as an announcement of the effective dates of the rules. Note that the rules effective on February 12, 2018, as listed above, are effective on that date pursuant to the Report and Order, paragraph 142, the date 270 days after publication of the text or a summary thereof in the Federal Register. If you have any comments on the burden estimates listed below, or how the Commission can improve the collection and reduce any burdens caused thereby, please contact Cathy Williams, Federal Communications Commission, Room 1-C823, 445 12th Street SW., Washington, DC 20554. Please include the OMB Control Number 3060-1243 in your correspondence. The Commission will also accept your comments via email at PRA@fcc.gov.

To request materials in accessible formats for people with disabilities (Braille, large print, electronic files, audio format), send an email to fcc504@fcc.gov or call the Consumer and Governmental Affairs Bureau at (202) 418-0530 (voice), (202) 418-0432 (TTY).

Synopsis

As required by the Paperwork Reduction Act of 1995 (44 U.S.C. 3507), the Commission is notifying the public that it received final OMB approval on October 2, 2017, for the information collection requirement contained in 47 CFR 1.9020(n), 1.9030(m), 1.9035(o), 20.18, and 20.23(a), as amended in the Commission's Report and Order, FCC 17-25.

Under 5 CFR part 1320, an agency may not conduct or sponsor a collection of information unless it displays a current, valid OMB Control Number. No person shall be subject to any penalty for failing to comply with a collection of information subject to the Paperwork Reduction Act that does not display a current, valid OMB Control Number. The OMB Control Number is 3060-1243.

The foregoing notice is required by the Paperwork Reduction Act of 1995, Public Law 104-13, October 1, 1995, and 44 U.S.C. 3507. The total annual reporting burdens and costs for the respondents are as follows:

OMB Control Number: 3060-1243.

OMB Approval Date: October 2, 2017.

OMB Expiration Date: October 31, 2020.

Title: Sections 1.9020(n), 1.9030(m), 1.9035(o), Community notification requirement for certain contraband interdiction systems; Section 20.18(r), Contraband Interdiction System (CIS) requirement; Section 20.23(a), good faith negotiations.

Form Number: N/A.

Respondents: Businesses or other for profit entities and state, local or Tribal Governments.

Number of Respondents and Responses: 26 respondents and 28 responses.

Estimated Time per Response: 8-16 hours.

Frequency of Response: On occasion reporting requirement.

Obligation to Respond: There is no obligation to respond; response required to obtain benefits. The statutory authority for this collection is contained in 47 U.S.C. 151, 152, 154(i), 154(j), 301, 302a, 303, 307, 308, 309, 310, and 332.

Total Annual Burden: 325 hours.

Total Annual Cost: No cost.

Nature and Extent of Confidentiality: There is no need for confidentiality with this collection of information.

Privacy Act: No impact(s).

Needs and Uses: On March 24, 2017, the Federal Communications Commission released a Report and Order, Promoting Technological Solutions to Combat Contraband Wireless Devices in Correctional Facilities, GN Docket No. 13-111, FCC 17-25 (Report and Order), in which the Commission took important steps to help law enforcement combat the serious threats posed by the illegal use of contraband wireless devices by inmates. Across the country, inmates have used contraband devices to order hits, run drug operations, operate phone scams, and otherwise engage in criminal activity that endangers prison employees, other inmates, and innocent members of the public. In the Report and Order, the Commission streamlined the process of deploying contraband wireless device interdiction systems—systems that use radio communications signals requiring Commission authorization—in correctional facilities. The action will reduce the cost of deploying solutions and ensure that they can be deployed more quickly and efficiently. In particular, the Commission waived certain filing requirements and provided for immediate approval of the spectrum lease applications needed to operate these systems.

The effectiveness of Contraband Interdiction System (CIS) deployment requires all carriers in the relevant area of the correctional facility to execute a spectrum lease with the CIS provider. Even if the major Commercial Mobile Radio Services (CMRS) licensees negotiate expeditiously and in good faith, if one CMRS licensee in the area fails to engage in lease negotiations in a reasonable time frame or at all, the CIS solution will not be effective. The lack of cooperation of even a single wireless provider in a geographic area of a correctional facility can result in deployment of a system with insufficient spectral coverage, subject to abuse by inmates in possession of contraband wireless devices operating on frequencies not covered by a spectrum lease agreement. While some carriers have been cooperative, it is imperative that all CMRS licensees be required to engage in lease negotiations in good faith and in a timely fashion. Therefore, the Commission adopted a rule requiring that CMRS licensees negotiate in good faith with entities seeking to deploy a CIS in a correctional facility. If, after a 45 day period, there is no agreement, CIS providers seeking Special Temporary Authority (STA) to operate in the absence of CMRS licensee consent may file a request for STA with the Wireless Telecommunications Bureau (WTB), with a copy served at the same time on the CMRS licensee, accompanied by evidence demonstrating its good faith, and the unreasonableness of the CMRS licensee's actions, in negotiating an agreement. The CMRS licensee may then file a response with WTB, with a copy served on the CIS provider at that time, within 10 days of the filing of the STA request.

The supplementary information provided along with the STA application by the CIS provider will be used by WTB to determine whether the CIS provider has negotiated in good faith, yet the CMRS licensee has not negotiated in good faith. The CMRS licensee may use the evidence accompanying the STA application to craft a response. WTB will analyze the evidence from the CIS providers and the CMRS licensee's response to determine whether to issue STA to the entity seeking to deploy the CIS.

The Commission explored whether it should impose a requirement that the community in the vicinity of a correctional facility where a CIS is installed be notified of the installation. The Commission explained that a goal of the proceeding is to expedite the deployment of technological solutions to combat the use of contraband wireless devices, not to impose unnecessary barriers to CIS deployment. Consistent with that goal, the Commission found that a flexible and community-tailored notification requirement for certain CISs outweighed the minimal burden of notification and furthered the public interest. After careful consideration of the record, the Commission imposed a rule that, 10 days prior to deploying a CIS that prevents communications to or from mobile devices, a lessee must notify the community in which the correctional facility is located, and the Commission amended its spectrum leasing rules to reflect this requirement. The Commission agreed with commenters that support notification of the surrounding community due to the potential for accidental call blocking and the public safety issues involved. The information provided in the notification will put the houses and businesses in the surrounding community on notice that a CIS will be deployed in the vicinity that has the potential for accidental call blocking.

Acknowledging the importance of ensuring the availability of emergency 911 calls from correctional facilities, and the fact that delivering emergency calls to public safety answering points (PSAPs) facilitates public safety services and generally serves the public interest, the Commission amended its rules to require that CIS providers regulated as private mobile radio service (PMRS) must route all 911 calls to the local PSAP. That said, the Commission also acknowledged the important role state and local public safety officials play in the administration of the 911 system. Accordingly, although the CIS provider is required to pass through emergency 911 calls, the PSAPs can inform the CIS provider that they do not want to receive calls from a given correctional facility. By allowing the PSAPs to decline the emergency 911 calls, the Commission recognized the reported increased volume of PSAP harassment through repeated inmate fraudulent 911 calls. The information provided by the PSAP or emergency authority will result in the CIS provider not passing through E911 calls from a particular correctional facility.

Federal Communications Commission.
Marlene H. Dortch,
Secretary.

[FR Doc. 2017-22635 Filed 10-19-17; 8:45 am]

BILLING CODE 6712-01-P